DEPARTMENT OF THE TREASURY

Internal Revenue Service

26 CFR Part 1

[REG-101896-09]

RIN 1545-BI66

Basis Reporting by Securities Brokers and Basis Determination for Stock; Correction

AGENCY: Internal Revenue Service (IRS), Treasury.

ACTION: Correction to a notice of proposed rulemaking.

SUMMARY: This document contains corrections to a notice of proposed rulemaking that was published in the Federal Register on Thursday, December 17, 2009, relating to reporting sales of securities by brokers and determining the basis of securities.

FOR FURTHER INFORMATION CONTACT: Concerning the proposed regulations under section 1012, Edward C. Schwartz, (202) 622-4960; Concerning the proposed regulations under sections 3406, 6045, 6045A, 6045B, 6721, and 6722, Stephen Schaeffer, (202) 622-4910 (not toll-free numbers).

SUPPLEMENTARY INFORMATION:

Background

A notice of proposed rulemaking that is the subject of this document is under sections 408, 1012, 6039, 6042, 6044, 6045, 6045A, 6045B and 6049 of the Internal Revenue Code.

Need for Correction

As published, a notice of proposed rulemaking (REG-101896-09), published Thursday, December 17, 2009 (74 FR 67010), contains errors that may prove to be misleading and are in need of clarification.

Correction of Publication

Accordingly, the publication of a notice of proposed rulemaking (REG-101896-09), which was the subject of FR Doc. E9-29855, is corrected as follows:

1. On page 67013, column 3, in the preamble, under paragraph heading “a. Form and Manner of New Broker Reporting Requirements”, last line of the first paragraph of the column, the language “pub/irs-dft/f1099k-dft.pdf.” is corrected to read “pub/irs-dft/f1099b--dft.pdf.”.

§ 1.6045-1 [Corrected]

2. On page 67035, column 2, paragraph (f)(2)(i), lines 6 thru 8, the language “shall show on Form 1099, “U.S. Information Return for Calendar Year 1971,” or any successor form the name,” is corrected to read “shall show on Form 1099-B, “Proceeds from Broker and Barter Exchange Transactions,” or any successor form the name”.

Guy R. Traynor,
Acting Chief, Publications and Regulations Branch, Legal Processing Division, Associate Chief Counsel (Procedure and Administration).

[FR Doc. 2010-1122 Filed 1-21-10; 8:45 am]

BILLING CODE 4830-01-P